FARM CREDIT ADMINISTRATION

Privacy Act of 1974; System of Records

AGENCY: Farm Credit Administration.

ACTION: Notice of a modified system of records.

SUMMARY: Pursuant to the provisions of the Privacy Act of 1974, as amended, notice is hereby given that the Farm Credit Administration (FCA or Agency) amending an existing system of records, FCA-5—Assignments and Communication Tracking System—FCA. The Assignments and Communication Tracking System—FCA system is used for reference, to track employee assignments, and to track oral and written communications between FCA staff and external parties. This information aids Agency management in its deliberations. The Agency is updating the notice to reflect changes to the system purpose and records, include more details, and make administrative updates, as well as non-substantive changes to conform to the SORN template requirements prescribed in the Office of Management and Budget (OMB) Circular No. A-108.

DATES: You may send written comments on or before July 6, 2020. The FCA filed an amended System Report with Congress and the Office of Management and Budget on May 1, 2020. This notice will become effective without further publication on July 14, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to . . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records. The substantive changes and modifications to the currently published version of FCA-5—Assignments and Communication Tracking System—FCA include:

1. Identifying the records in the system as unclassified.

2. Updating the system location to reflect the system's current location.

3. Updating the system managers to reflect the system's current owner.

4. Clarifying and expanding the system purpose to maintain files related to receiving, reviewing, and responding to public comments received on the Agency's proposed rulemakings and other public notices, as applicable.

5. Expanding and clarifying the categories of records to ensure they are consistent with the purposes for which the records are collected.

6. Expanding and clarifying how records may be stored and retrieved.

7. Clarifying the routine uses for which information in the system may be disclosed and adding a routine use for the disclosure of public comments the Agency receives in its rulemaking and other activities, in compliance with the Administrative Procedures Act.

8. Revising the retention and disposal section to reflect the relevant records schedule.

9. Revising the safeguards section to reflect updated cybersecurity guidance and practices.

Additionally, non-substantive changes have been made to the “Record Source Categories” and “Notification Procedures” sections of this notice.

The amended system of records is: FCA-5—Assignments and Communication Tracking System—FCA. As required by 5 U.S.C. 552a(r) of the Privacy Act, as amended, the FCA has sent notice of this proposed system of records to the Office of Management and Budget, the Committee on Oversight and Government Reform of the House of Representatives, and the Committee on Homeland Security and Governmental Affairs of the Senate. The notice is published in its entirety below.

SYSTEM NAME AND NUMBER:

FCA-5—Assignments and Communication Tracking System—FCA.

SECURITY CLASSIFICATION:

Unclassified.

SYSTEM LOCATION:

Farm Credit Administration, 1501 Farm Credit Drive, McLean, VA 22102-5090.

SYSTEM MANAGER:

Chief Operating Officer, Farm Credit Administration, 1501 Farm Credit Drive, McLean, VA 22102-5090.

AUTHORITY FOR MAINTENANCE OF THE SYSTEM:

12 U.S.C. 2243, 2252.

PURPOSES OF THE SYSTEM:

Information in this record system is used to: (1) Track employee assignments; (2) make appropriate portions of the records available to the public; (3) enable members of the public to review and comment on or respond to such comments; and (4) facilitate, track, and maintain records of oral and written communications between FCA staff and external parties. Information in this system is also used for reference and aids Agency management in its deliberations.

CATEGORIES OF INDIVIDUALS COVERED BY THE SYSTEM:

Individuals who submit correspondence or have correspondence submitted on their behalf to the Agency, or who request to receive correspondence from the Agency, as well as FCA employees, contractors, and interns assigned to the management of such correspondence.

CATEGORIES OF RECORDS IN THE SYSTEM:

This system contains paper and electronic files, including incoming and outgoing correspondence, letters, memoranda, and other similar documents pertaining to FCA's operations, and communication logs. In addition to non-public correspondence, this system includes public comments and other records that an individual may submit, such as those in response to an Agency rulemaking. Information includes, but is not limited to: (1) Correspondence received and sent by the Agency; (2) mailing lists or similar lists of contact information of individuals who submit correspondence, have correspondence submitted on their behalf, or request to receive correspondence from the Agency, including name, home or work address, personal or work email address, home, work or cellular phone number, employer, and title; (3) information pertaining to the correspondence, including status or disposition, type of correspondence, associated dates, and any other information relayed in the body of the correspondence; and (4) information pertaining to the Agency employees responsible for processing the correspondence, including name, title, and other information about internal assignments.

RECORD SOURCE CATEGORIES:

Information in this system of records is obtained from individuals who submit correspondence or have correspondence submitted on their behalf to the Agency, FCA employees and contractors, Farm Credit System Institutions, and other external parties.

ROUTINE USES OF RECORDS MAINTAINED IN THE SYSTEM, INCLUDING CATEGORIES OF USERS AND PURPOSES OF SUCH USES:

See the “General Statement of Routine Uses” (64FR 8175). The information collected in the system will be used in a manner that is compatible with the purposes for which the information has been collected and, in addition to the applicable general routine uses, may be disclosed for the following purposes:

(1) We may disclose certain information in this system of records to the public, including posting copies of public comments on FCA's website, www.fca.gov, or by other electronic or non-electronic means, in accordance with the Administrative Procedures Act. Information disclosed may include identifying information, such as names, phone numbers, and addresses, provided in public comments and other records that an individual submits in connection with Agency rulemaking and other activities.

DISCLOSURE TO CONSUMER REPORTING AGENCIES:

None.

POLICIES AND PRACTICES FOR STORAGE OF RECORDS:

Records are maintained in file folders and on a computerized database.

POLICIES AND PRACTICES FOR RETRIEVAL OF RECORDS:

Records are retrieved by name, email address, Farm Credit District, subject, or some combination thereof.

POLICIES AND PROCEDURES FOR RETENTION AND DISPOSAL OF RECORDS:

Records are retained in accordance with the FCA Comprehensive Records Schedule and National Archives and Records Administration regulations.

ADMINSITRATIVE, TECHNICAL, AND PHYSICAL SAFEGUARDS:

FCA implements multiple layers of security to ensure access to records is limited to those with a need-to-know in support of their official duties. Records are physically safeguarded in a secured environment using locked file rooms, file cabinets, or locked offices and other physical safeguards. Computerized records are safeguarded through use of user roles, passwords, firewalls, encryption, and other information technology security measures.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

NOTIFICATION PROCEDURE:

Address inquiries about this system of records to: Privacy Act Officer, Farm Credit Administration, McLean, VA 22102-5090.

EXEMPTIONS PROMULGATED FOR THE SYSTEM:

None.

HISTORY

Federal Register Vol. 64, No. 100/Tuesday, May 25, 1999, page 21875

Vol. 70, No. 183/Thursday, September 22, 2005, page 55621

Dated: June 1, 2020.
Dale Aultman,
Secretary, Farm Credit Administration Board.

[FR Doc. 2020-12097 Filed 6-3-20; 8:45 am]

BILLING CODE 6705-01-P